DEPARTMENT OF HEALTH AND HUMAN SERVICES

Indian Health Service

Mental Health and Community Safety Initiative for American Indian and Alaska Native Children, Youth and Families

Announcement Type: Grant.

Funding Opportunity Number: HHS-2006-IHS-MHC-001.

Catalog of Federal Domestic Assistance Number: 93.228.

Key Dates: Application Deadline Date: September 11, 2006.

Review Date: September 14, 2006.

Award Announcement Date: September 26, 2006.

Earliest Anticipated Start Date: September 29, 2006.

I. Funding Opportunity Description

The Indian Health Service (IHS) has developed the Mental Health and Community Safety Initiative (MHCSI) for American Indian/Alaska Native (AI/AN) Children, Youth and Families. The IHS announces the availability of Fiscal Year (FY) 2006 funds for limited competition for MHCSI Grants to implement innovative strategies that focus on mental health, behavioral, substance abuse, and community safety needs of AI/AN young people and their families who are involved or at risk of involvement with the juvenile justice system. This effort was first initiated through the White House Domestic Policy Council to provide federally recognized Tribes and eligible Tribal organizations with assistance to plan, design and assess the feasibility of implementing a culturally appropriate system of care for AI/ANs. The planning phase which was under a cooperative agreement focused on integrating traditional healing methods indigenous to the communities with conventional treatment methodologies. This grant announcement will focus on implementation of services utilizing the planning phase accomplishments as a foundation. Applicants should have completed a four-year planning process in the development of the implementation plan which has been developed collaboratively with participation of the service population and the various resource provider agencies in the community to be served.

This program is authorized under the Snyder Act, 1921 and under authority 25 U.S.C. 1621h(m), Indian Health Care Improvement Act (IHCIA). This program is described at 93.228 in the Catalog of Federal Domestic Assistance. This grant will be awarded and administered in accordance with:

1. This announcement.

2. 42 CFR Part 136.101, et seq.

3. 45 CFR Part 92, “Department of Health and Human Services, Uniform Administrative Requirements for Grants and Cooperative Agreements to State and Local Governments,” or 45 CFR, Part 74, “Administration of Grants to Non-Profit Recipients”.

4. The Public Health Service (PHS) Grants Policy Statement, Revised April, 1994.

5. Applicable Office of Management and Budget (OMB) Circulars.

II. Award Information

Type of Awards: Grant.

Estimated Funds Available: The total amount of funds available for FY 2006 is $350,000. The award is for 12 months in duration with a maximum award amount of $125,000 for two grantees and $100,000 for one grantee. Competitive awards depend on the availability of funds and successful completion of the planning phase.

Anticipated Number of Awards: Three awards will be issued under the Program.

Project Period: September 29, 2006 through September 29, 2007.

Award Amount: $100,000-$125,000 per year. Maximum award will be $125,000. Funds exceeding $125,000 will not be considered.

Note: This announcement applies to existing grantees who have successfully completed the planning process.

III. Eligibility Information

1. Eligible Applicants

Eligibility will be limited to American Indian/Alaska Native grantees who have successfully completed the planning phase under the Mental Health and Community Safety Initiative Grants.

2. Cost Sharing or Matching

The Mental Health and Community Safety Initiative Program does not require matching funds or cost sharing.

IV. Application and Submission Information

1. Applicant package may be found at http://www.grants.gov

Information regarding the electronic process may be directed to Michelle Bulls, Grants Policy Officer, at (301) 443-6528. Information regarding the general grant information may be directed to:

Program Contact: Ramona Williams, Office of Clinical and Preventive Services, Division of Behavioral Health, Indian Health Service, 801 Thompson Ave, Suite 300, Rockville, Maryland 20852; (301) 433-2038. Grants Specialist Contact: Martha Redhouse, Division of Grants Operations, Indian Health Service, 801 Thompson Ave, TMP, Suite 360, Rockville, Maryland 20852; (301) 433-5204.

2. Content and Form of Application Submission

• Be single-spaced.

• Be typewritten.

• Have consecutively numbered pages.

• Use black type not smaller than 12 characters per one inch.

• Contain a narrative that does not exceed 7 typed pages and that includes:

• program goals and objectives, and background need for assistance and capacity. Key personnel; budget justification; evaluation; table of contents and appendices should not be included in the narrative section.

Public Policy Requirements: All Federal-wide public policies apply to IHS grants with the exception of Lobbying and Discrimination.

A pre-application or Letter of Intent is not required.

For applicants previously funded under the planning phase grant, proof of non-profit status will not be required.

3. Submission Dates and Times

Applications must be submitted electronically through Grants.gov by 5 p.m. ET on September 11, 2006. If technical issues arise and the applicant is unable to successfully complete the electronic application process, the applicant must contact Grants Policy Staff fifteen days prior to the application deadline. The Grants Policy Staff will determine whether you may submit a paper application (original and 2 copies). The grantee must obtain prior approval, in writing, from the Grants Policy Staff allowing the paper submission. As appropriate, paper applications are due by the date referenced above. Paper applications (original and 2 copies) shall be considered as meeting the deadline if received by the due date or postmarked on or before the deadline date. Applicants should request a legibly dated U.S. Postal Service postmark or obtain a legibly dated receipt from a commercial carrier or U.S. Postal Service. Private metered postmarks will not be acceptable as proof of timely mailing.

Late applications will not be accepted. All late applications will be returned to the applicant without review.

4. Intergovernmental Review

Executive Order 12372 requiring intergovernmental review is not applicable to this program.

5. Funding Restrictions

A. Obtain prior approval from Program Official for pre-award costs.

B. The available funds are inclusive of direct and indirect costs.

C. Only one grant will be awarded per applicant.

6. Other Submission Requirements

Electronic Submission—The preferred method for receipt of applications is electronic submission through Grants.gov. However, should any technical problems arise regarding the submission, please contact Grants.gov Customer Support at 1-800-518-4726 or support&grants.gov. The Contact Center hours of operations are Monday-Friday from 7 a.m. to 9 p.m. Eastern Standard Time (EST). If you require additional assistance please contact IHS Grants Policy Staff at (301) 443-6528 at least fifteen days prior to the application deadline. To submit an application electronically, please use the http://www.Grants.gov Web site. Download a copy of the application package, on the Grants.gov Web site, complete it off-line and then upload and submit the application via the Grants.gov Web site. You may not E-mail an electronic copy of a grant application to us.

Please be reminded of the following:

• Under the new IHS requirements, paper applications are not the preferred method. However, if you have technical problems submitting your application on-line, please contact Grants.gov Customer Support at: http://www.grants.gov/CustomerSupport. If you are still unable to successfully submit your application on-line, please contact Grants Policy Staff fifteen days prior to the application deadline and advise them of the difficulties you have having submitting your application on-line. At that time, it will be determined whether you may submit a paper application. At that point you are to download the application package from Grants.gov, and send it directly to the Division of Grants Operations, 801 Thompson Avenue, TMP, Suite 300, Rockville, MD 20852 by September 11, 2006, 5 p.m. ET.

• When you enter the Grants.gov Web site, you will find information about submitting an application electronically through the Web site, as well as the hours of operation. We strongly recommend that you do not wait until the deadline date to begin the application process through Grants.gov.

• To use Grants.gov, you, as the applicant, must have a DUNS Number and register in the Central Contractor Registry (CCR). You should allow a minimum of ten days to complete CCR registration. See below on how to apply.

• You must submit all documents electronically, including all information typically included on the SF-424 and all necessary assurances and certifications.

• Your application must comply with any page limitation requirements described in the program announcement.

• After you electronically submit your application, you will receive an automatic acknowledgement from Grants.gov that contains a Grants.gov tracking number. The IHS will retire your application from Grants.gov.

• You may access the electronic application for this program on http://www.Grants.gov.

• You must search for the downloadable application package by CFDA number.

• To receive an application package, the applicant must provide the Funding Opportunity Number: HHS-2006-IHS-MHC-0001.

E-mail applications will not be accepted under this announcement.

DUNS Number: Applicants are required to have a Dun and Bradstreet (DUNS) number to apply for a grant or cooperative agreement from the Federal Government. The DUNS number is a nine-digit identification number, which uniquely identifies business entities. Obtaining a DUNS number is easy and there is no charge. To obtain a DUNS number, access http://www.dunandbradstreet.com or call 1- 866-705-5711. Interested parties may wish to obtain their DUNS number by phone to expedite the process.

Central Contractor Registry: Applications submitted electronically must also be registered with the Central Contractor Registry (CCR). A DUNS number is required before CCR registration can be completed. Many organizations may already have a DUNS number. Please use the number listed above t investigate whether or not your organization has a DUNS number. Registration with the CCR is free of charge.

Applicants may register by calling 1-888-227-2423. Please review and complete the CCR “Registration Worksheet” located on http://www.grants.gov/CCRRegister.

More detailed information regarding these registration processes can be found at http://www.grants.gov.

V. Application Review Information

1. Criteria

A. Program Goals and Objectives (30 Points)

The application will be evaluated on the extent to which the applicant:

(1) Includes a clear description of the goals and objectives of the program in measurable terms;

(2) Describes how the accomplishment of the objectives will be measured, including whether or not the program is replicable;

(3) Describes tasks and resources needed to implement and complete the project as well as who will perform the tasks;

(4) Provides milestones or a time chart that indicates the time that the project will begin to accept clients;

(5) Defines the data collection mechanism for the project, how it will be obtained, analyzed, and maintained;

(6) Includes information in the data system that reflects the number and types of people served, services provided, client outcomes, client satisfaction, and associated costs;

(7) Describes how the data collection will support the stated objectives for the program and how it will support the evaluation of the program;

(8) Describes the evaluation methodology and related activities, describes how the effectiveness of the employed interventions will be monitored as well as the acceptance of the program within the community; and

(9) Develops a knowledge base of reliable and valid service system models that define the best outcomes for AI/AN children and their families, respecting the unique features of the culture of the target community (e.g. Northern Plains, Pueblo, Alaska Native village).

Further evaluation will be made of how well the applicant:

(1) Discusses the manner that allows the program services to continue after the grant expires;

(2) Expresses willingness to share models of success with other communities and programs;

(3) Develops a cohesive and effective mental health service system that draws on Tribal, Federal, state, local, and private resources, including traditional healers as determined by the community. The system of care must involve education, primary care, justice, child welfare, as well as behavioral health prevention and treatment; and

(4) Describes how data derived from the program will be used for improving the service system, increasing the quality of service delivery, developing system of care policies in the local community, and sustaining the system of care beyond the additional one-year period of Federal funding.

B. Background, Need for Assistance, and capacity (25 points)

The application will be evaluated based on the extent to which the applicant: (1) Describes and defines the target population at the project location (e.g., Tribal population, number of cases of child abuse and neglect (CAN) and/or seriously mentally ill (SMI) cases reported, number of juvenile cases prosecuted, number of children/families currently receiving treatment, number of children/families determined to be at risk), and identifies the information sources;

(2) Lists the number of CAN cases and/or SMI children and youth who are involved or at risk for becoming involved with the juvenile justice system and specifies the source of information for all data that supports the need for program;

(3) Describes the existing resources and available resources, including the availability of AI/AN healing resources that will provide services to the target population and their families;

(4) Describes the needs of the target population and what efforts have been made in the past to meet the need, as applicable (e.g., number of treatment providers, collaborative efforts and agreements with other treatment programs, availability of program funding from other sources);

(5) Summarizes the applicable standards, laws, regulations, and codes; and

(6) Shows Tribal or organizational support for the proposed program.

C. Management Controls (15 points)

The application will be evaluated on the extent to which the applicant:

(1) Describes the project location, facilities, and available equipment;

(2) Describes the management controls of the recipient over the direction and acceptability of work to be performed;

(3) Describes the personnel and financial mechanisms to be utilized;

(4) Demonstrates that the organization has adequate systems and expertise to manage Federal funds; and

(5) Includes a letter from the accounting firm with the results of the most recent financial audit for the organization.

D. Key Personnel (10 points)

The application will be evaluated based on the extent to which the applicant:

(1) Provides a resume, qualifications, and position description for the program director and key personnel as described on page 22 of the PHS 5161;

(2) Identifies existing personnel and new program staff to be hired;

(3) Lists the qualifications and experience of consultants or contractors where their use is anticipated; and

(4) Identifies who will determine if the contracted work is acceptable and how the determination will be made.

E. Budget (10 points)

The application will be evaluated based on the extent to which the applicant:

(1) Provides an itemized estimate of costs and a justification for the proposed program on SF 424A, Budget Information Non-Construction Programs;

(2) Allows for a narrative justification that describes the expenditures and the justification for the expenditures;

(3) Indicates special start-up costs;

(4) Includes a brief program narrative and budget for the additional year of funding requested; and

(5) Provides a statement that grant funding may not be used to supplant existing public and private resources.

F. Evaluation (10 points)

The application will be critiqued to the extent to which the applicant implements an evaluation protocol. Collaboration and coordination with outside institutions and/or consultant expertise may be used. The application will be evaluated on the extent to which, the applicant:

(1) Describes how the evaluation plan will measure the accomplishments of the goals and objectives of the project;

(2) Describes how outcomes will be measured and analyzed; and

(3) Describes the data collection methods and types of data to be used in measuring outcomes of the goals and objectives.

2. Reviewed and Selection Process

Applications meeting eligibility requirements that are complete, responsive, and conform to this program announcement will be reviewed for merit by an Ad Hoc Objective Review Committee (ORD) appointed by the IHS to review and make recommendations on the applications. The review will be conducted in accordance with the PHS Objective Review Guidelines. The technical review process ensures selection of quality projects in a limited competition for limited funding. Applications will be evaluated and rated on the basis of the six evaluation criteria listed above for the type of project submitted. These criteria are used to evaluate the quality of a proposed project, to assign a numerical score to each application, and to determine the likelihood of success. Applications scoring below 60 points will be disapproved. The scoring of approved applications will assist the IHS in determining which proposals will be funded.

3. Anticipated Announcement and Award Dates

Applications received by the closing date of September 11, 2006 or verified by the postmark will undergo a review to determine that the:

A. Applicant is eligible in accordance with the Eligibility and Documentation section of this announcement;

B. Application narrative, forms, and materials submitted meet the requirements of the announcement and allow the review panel to undertake an in-depth evaluation; the application is not a duplication of a previously funded project and the application complies with this announcement; otherwise, the application will be returned to the applicant. The Award Date is September 26, 2006.

VI. Award Administration Information

1. Award Notices

The program officer will notify the contact person identified on each proposal of the results in writing via postal mail. Applicants whose applications are declared ineligible will receive written notification of the ineligibility determination and their original grant application will be returned via postal mail. The ineligible notification will include information regarding the rationale for the ineligible decision citing specific information from the original grant application. Applicants who are approved and funded will be notified through the Financial Assistance Award (FAA) document signed by the Grants Management Officer. The FAA will serve as the official notification of a grant award and will state the amount of Federal funds awarded, the purpose of the grant, the terms and conditions of the grant award, the effective date of the award, the project period, and the budget period. Any other correspondence announcing to the Applicant's Project Director that an application was recommended for approval is not an authorization to begin performance.

2. Administrative and National Policy Requirements

Grants are administered in accordance with the following documents: A. 45 CFR Part 92, “Uniform Administrative Requirements for Grants and Cooperative Agreements to State, Local, and Tribal Governments”, or 45 CFR Part 74, “Uniform Administrative Requirements for Awards and Subawards to Institutions of Higher Education, Hospitals, Other Non-Profit Organizations, and Commercial Organizations”.

B. Public Health Service Grants Policy Statement, Revised April 1994.

C. Appropriate Cost Principles: OMB Circular A-87, “State, Local, and Indian Tribal Governments,” or OMB Circular A-122, “Non-Profit Organizations”.

D. OMB Circular A-133, “Audits of States, Local Governments, and Non-Profit Organizations”.

E. Other Applicable OMB Circulars.

3. Reporting

A. Progress Report: Program progress reports are required quarterly. These reports will include a brief comparison of actual accomplishment to the goals established for the period, reasons for slippage (if applicable), and other pertinent information as required. A final report must be submitted within 90 days of expiration of the budget/project period.

Financial Status Report: Semi-annual financial status reports (FSR) must be submitted within 30 days of the end of the half year. Final FSR are due within 90 days of expiration of the budget/project period. Standard Form 269 can be downloaded from http://www.whitehouse.gov/omb/grants/sf269.pdf for financial reporting.

Grantees are responsible and accountable for accurate reporting of the Progress Reports and Financial Status Reports which must be verified by the grantee. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization of the individual responsible for preparation of reports.

VII. Agency Contact(s)

Interested parties may obtain MHCSI programmatic information from Ms. Ramona Williams, Program Officer, through the information listed under Section IV of this program announcement. Grant-related and business management information may be obtained from Ms. Martha Redhouse, Grants Management Specialist through the information listed under Section IV of this program announcement. Please note that the telephone numbers provided are not toll-free.

VIII. Other Information

The Department of Health and Human Services (HHS) is committed to achieving the health promotion and disease prevention objectives Healthy People 2010, and HHS-led activity for setting priority areas. Potential applicants may obtain a printed copy of Healthy People 2010, (Summary Report No, 017-001-00549-5) or CD-ROM, Stock No. 017-001-00549-5, through the Superintendent of Documents, Government Printing Office, P.O. Box 371954, Pittsburgh, PA, 15250-7945, (202) 512-1800. You may also access this information at the following Web site: http://www.healthypeople.gov/Publications.

The U.S. Census Bureau website contains AI/AN specific data at the Tribal census tract level. Data is provided at http://factfinder.census.gov/home/aian/index.html by Tribe and language; reservations and other AI/AN areas; county and Tribal census tract level; and economic category.

The HHS strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the HHS mission to protect and advance the physical and mental health of the American people.

Dated: August 10, 2006.
Mary Lou Stanton,
Deputy Director for Indian Health Policy, Indian Health Service.

[FR Doc. 06-6936 Filed 8-15-06; 8:45 am]

BILLING CODE 4165-16-M